FEDERAL COMMUNICATIONS COMMISSION

[CC Docket No. 98-67; DA 01-1969]

FCC To Convene a Public Forum and Technology Expo on Telecommunications Relay Services; Ex Parte Comments Invited

AGENCY: Federal Communications Commission.

ACTION: Announcement of meeting.

SUMMARY: This notice invites interested person to a Public Forum and Technology Expo on telecommunications relay services (TRS). The purpose of this Forum and Expo is for TRS administrators, consumers, providers, and Commission staff to share information on, among other things, current state TRS outreach programs, implementation of a nationwide TRS outreach program, and new TRS technologies.

DATES: The Public Forum and Technology Expo on TRS will be held on Wednesday, October 10, 2001 from 9:00 a.m. to 3:30 p.m. in the Commission Meeting Room, Room TW-C305 and adjacent rooms, at 445 12th St., SW., Washington, DC 20554. Ex parte comments are due on or before October 20, 2001.

ADDRESSES: Federal Communications Commission, 445 12th Street, SW., Washington, DC 20554.

FOR FURTHER INFORMATION CONTACT: For more information about the Forum, please contact Suzanne Perrin at (202) 418-2874 (voice), (202) 418-1085 (TTY), or sperrin@fcc.gov (e-mail); or Pat Chew at (202) 418-0514 (voice) or pchew@fcc.gov (e-mail). For more information about the Technology Expo or how to exhibit at the Expo, please contact Arlene Alexander at (202) 418-0581 (voice), (202) 418-0183 TTY, or aalexand@fcc.gov. This document is available to individuals with disabilities requiring accessible formats (electronic ASCII text, Braille, large print, and audio) by contacting Brian Millin at (202) 418-7426 (voice), (202) 418-7365 (TTY), or by sending an email to access@fcc.gov.

SUPPLEMENTARY INFORMATION: The Forum will offer an opportunity for everyone, including consumers and industry representatives, to exchange ideas with the Commission and TRS administrators and to have their comments become part of the formal public record in CC Docket 98-67. In conjunction with the Forum, the Consumer Information Bureau will hold a Technology Expo to showcase TRS and other accessibility technologies. The Forum agenda is tentatively as follows:

9:00 a.m.-3:30 p.m.—Technology Expo

9:15 a.m.-9:30 a.m.—Opening Remarks

9:30 a.m.-9:45 a.m.—TRS Overview

9:45 a.m.-11:10 a.m.—Panels on TRS Outreach

11:20 a.m.-12:15 p.m.—Panel on TRS Technologies for the 21st Century

12:15 p.m.-1:30 p.m.—Expo Demonstrations (Lunch Break)

1:30 p.m.-3:00 p.m.—Open Microphone

3:00 p.m.-3:30 p.m.—Expo Demonstrations

Interested parties who choose to file ex parte comments by paper in accordance with Section 1.1206 of the Commission's rules, 47 CFR 1.1206, should file an original and four (4) copies of their comments with the FCC's Office of the Secretary, 445 12th Street, SW., TW-A325, Washington DC, 20554 and should reference CC Docket No. 98-67. In addition, where filings are made prior to August 28, 2001, one (1) copy of those filings should be sent to our duplicating contractor, International Transcription Service, Inc. (ITS), at 445 12th Street, CY B400, SW., Washington, DC, 20554. Effective August 28, 2001, please use the following address for the duplicating contractor: Qualex International, Portals II, 445 12th Street, SW., Room CY-B402, Washington, DC, 20554. Additionally, two (2) copies should be forwarded to Greg Hlibok, Consumer Information Bureau, FCC, 445 12th Street, SW., Room 6-A236, Washington, DC, 20554. All filings concerning any of the matters referenced in this Public Notice should refer to CC Docket 98-67. You may also file ex parte comments using the Commission's Electronic Comment Filing System (ECFS). Ex parte comments filed through the ECFS can be sent as an electronic file via the Internet to http://www.fcc.gov/e-file/ecfs.html. If using this method, please reference CC Docket No. 98-67 in the Proceeding Block. Generally, only one copy of an electronic submission must be filed. In completing the transmittal screen, commenters should include their full name, Postal Service mailing address, and the applicable docket or rulemaking number. Parties may also submit an electronic ex parte comment by Internet e-mail. To get filing instructions for e-mail ex parte comments, commentaries should send an e-mail to ecfs@fcc.gov, including “get form [your e-mail address]” in the body of the message. A sample form and directions will be sent in reply. The full text of this document is available for public inspection and copying during regular business hours at the FCC Reference Information Center, Portals II, 445 12th Street, SW., Room CY-A257, Washington, DC, 20554. After August 28, 2001, this document may also be purchased from the Commission's duplicating contractor, Qualex International, Portals II, 445 12th Street, SW., Room CY-B402, Washington, DC, 20554, telephone 202-863-2893, facsimile 202-863-2898, or via e-mail qualexint@aol.com. Those unable to attend the Forum can watch and listen to it live over the Internet through RealAudio from the FCC web site at: http://www.fcc.gov/realaudio/ or hear it via telephone, for a fee, from National Narrowcast Network, (202) 966-2211 (voice/TRS) or (202) 966-1770 (fax). The Forum also will be live captioned on the Internet. Individuals can send their views and/or questions during the Forum to: TRSFORUM@fcc.gov (e-mail). The e-mails should have the heading, “Ex Parte Comments in CC Docket 98-67.” If time permits, views and/or questions received during the Forum via this e-mail site will be addressed at the Forum. These views will be included in the record of the TRS proceeding. Any hand-outs that are distributed at this meeting from in-person presenters or Commission presenters will be posted on the Internet at the Consumer Information Bureau web page at http://www.fcc.gov/cib. Hand-outs will be made available in alternative formats (computer diskette, large print, audio cassette and Braille) to persons with disabilities by contacting Brian Millin at (202) 418-7426 (voice), (202) 418-7365 (TTY), or bmillin@fcc.gov (e-mail).

Synopsis

TRS is required by Title IV of the Americans with Disabilities Act (Section 225 of the Communications Act of 1934). TRS now utilizes a variety of services to facilitate telephone communication between persons with hearing or speech disabilities and persons who use voice telephones. Relay services between TTY and voice users utilize a relay operator, called a Communications Assistant (CA), to read what the TTY user types to a voice telephone user, and to type responses back to the TTY user throughout the duration of a telephone call. Speech-to-speech (STS) relay utilizes CAs trained in understanding certain speech patterns to relay conversations for people with speech disabilities. Video relay services (VRS) utilize CAs skilled in sign language to relay conversations for users of American Sign Language. The Forum will provide an opportunity for a full exchange of ideas on state and nationwide outreach efforts related to TRS. In March 2000, the Commission issued a Report and Order and Further Notice of Proposed Rulemaking (FNPRM), In the Matter of Telecommunications Relay Services and Speech-to-Speech Services for Individuals with Hearing and Speech Disabilities, CC Docket 98-67, which tentatively concluded that TRS service could be improved with a nationwide awareness campaign that reaches all potential TRS users, including consumers with disabilities, senior citizens who have lost hearing late in life, potential STS users, and the general public. The FNPRM asked for comment about the extent to which a national outreach effort should be supported by the interstate TRS fund and whether the interstate TRS fund administrator should administer the funding for such educational outreach programs. The FNPRM further proposed to amend the mission of the Interstate TRS Advisory Council to include establishing guidelines and a procedure to fund a coordinated national outreach campaign. In August 2000, the Commission also adopted a Second Report and Order in its proceeding on The Use of N11 Codes and Other Abbreviated Dialing Arrangements, CC Docket 92-105, which required common carriers to provide access to all relay services via the 711 dialing code by October 1, 2001. Among other things, that Order directed each common carrier providing telephone voice transmission services to conduct, not later than October 1, 2001, ongoing education and outreach programs that publicize the availability of 711 access to TRS, in a manner reasonably designed to reach the largest number of consumers possible. To supplement and refresh the record initiated with the March FNPRM, at the Forum we will seek to further identify the guidelines and procedures necessary to fund a coordinated nationwide outreach program. In addition, information will be shared to facilitate ongoing efforts to comply with the August Report and Order mandating 711 outreach. While time constraints limit the number of individuals who may make in-person presentations at the Forum, we encourage all interested individuals to submit written ex parte comments, by October 20, 2001, identifying proposed national outreach guidelines and procedures. Written ex parte comments will aid us in our decision-making with regard to identifying the best means of achieving nationwide outreach on TRS.

Consumer Information Bureau.
Pamela Gregory,
Chief, Disabilities Rights Office.

[FR Doc. 01-21625 Filed 8-27-01; 8:45 am]

BILLING CODE 6712-01-P